DEPARTMENT OF EDUCATION

[CFDA No: 84.349A]

Early Childhood Educator Professional Development Programs

AGENCY: U.S. Department of Education.

ACTION: Notice inviting applications for new awards and final procedures and requirements for a fiscal year (FY) 2001 competition for Early Childhood Educator Professional Development Program grants.

SUMMARY: The Secretary invites applications for new grant awards for FY 2001 for Early Childhood Educator Professional Development programs. These grants are authorized by the Department of Education Appropriations Act for 2001 under section 2102 of the Elementary and Secondary Education Act of 1965 (ESEA). The Secretary also announces final procedures and requirements to govern this competition and FY 2001 awards of these grants.

Purpose of Program

The purpose of Early Childhood Educator Professional Development Program grants is to provide replicable high-quality professional development programs to improve the knowledge and skills of early childhood educators who work in early childhood programs located in urban or rural high-poverty communities, and who serve primarily children from low-income families. These professional development programs must primarily provide research-based training that will improve early childhood pedagogy and will further children's language and literacy skills to prevent them from encountering reading difficulties when they enter school. These grants complement the President's early reading initiative, which will support local efforts to enhance the school readiness of young children, particularly those from low-income families, through scientifically based reading research that is designed to improve the verbal skills, phonological awareness, letter knowledge, pre-reading skills, and early language development of children ages three through five. The Department intends to disseminate information about these professional development programs that prove to be effective models for practice to early childhood education programs.

Applications Available: April 24, 2001.

Deadline for Transmittal of Application: June 25, 2001.

Deadline for Intergovernmental Review: August 22, 2001.

Estimated Available Funds: $10,000,000.

Estimated Range of Awards (for entire project period): $600,000-$1,400,000.

Estimated Average Size of Awards (for entire project period): $1,000,000.

Estimated Number of Awards: 10.

Note: The Department is not bound by any estimates in this notice. To provide applicants the capacity to effectively plan for and carry out the professional development and evaluation activities involved in these programs, the Secretary anticipates awarding the entire grant amount for the project at the time of the initial award.

Project Period: Up to 24 months.

SUPPLEMENTARY INFORMATION:

Background

Research demonstrates the strong relationship between high-quality educational experiences for children before kindergarten and their later success in school. The National Research Council report, Preventing Reading Difficulties in Young Children (1998), concludes that the majority of reading problems faced by today's adolescents and adults could have been avoided or resolved in the early years of childhood. The Cost, Quality and Child Outcomes report (June 1999), partially funded by the Department, concludes that children's cognitive and social competence in the second grade can be predicted by the experiences that they had four years previously in child care, even after taking into account kindergarten and first grade classroom experiences. The report also found that children who have traditionally been at risk for not doing well in school are more affected by the quality of child care experiences than are other children.

Research-based professional development is a critical element for implementing a high-quality early childhood program. The National Research Council (NRC) report Eager to Learn (2000) concluded that the professional development of teachers is related to the quality of early childhood education programs, and that program quality predicts positive learning outcomes for children. In fact, the report emphasizes that a responsive teacher is key to young children's success in school, and a substantial investment in the education and training of those who will work with young children is at the heart of any effort to promote high-quality early childhood education programs. Research shows that many early childhood providers have little formal education beyond high school and that preschool and other group care settings for young children (in particular, those available to families with limited economic resources) often provide relatively impoverished language and literacy environments. In addition, many early childhood educators do not have access to high-quality, research-based professional development. Accordingly, these grants will provide replicable high-quality professional development programs for early childhood educators that are based upon scientifically based reading research and that the Department will be able to use in disseminating information to help fill this professional development gap.

These Early Childhood Educator Professional Development Program grants will concentrate on funding projects that provide, and use rigorous methodologies to evaluate the effectiveness of, high-quality, research-based professional development opportunities. These grants will improve the knowledge and skills of early childhood educators who work in urban and rural communities with high concentrations of young children living in poverty, in programs such as Title I preschools and schoolwide programs, Head Start, Even Start Family Literacy programs, and publicly funded or subsidized child care.

Eligible Applicants: One or more institutions of higher education, State agencies for higher education, local educational agencies, educational service agencies, State educational agencies, and other public and private agencies, organizations, and institutions such as child care consortiums, and Head Start programs.

Note: NOTE: Under 34 CFR 75.127-75.129, eligible parties may apply as a group for a grant under this program.

Definitions: For the purposes of this notice and grant competition, the Secretary considers the following terms to have the following meanings:

(1) The term “early childhood educator” means any person who is involved in the education and care of children at any age from birth through pre-kindergarten, including volunteers as well as paid staff.

(2) The term “high-poverty community” means an urban or rural community with a high concentration of young children living in poverty. The Secretary considers a community to have a high concentration of young children living in poverty if it is a municipality, or portion of a municipality, in which at least 50 percent of children are from low-income families or a municipality that is one of the 10 percent of municipalities within its State having the greatest numbers of those children.

(3) The term “low-performing school” means a school identified for improvement under section 1116(c) of the Elementary and Secondary Education Act of 1965, as amended.

(4) The term “scientifically based reading research” consistent with the meaning given that term in section 2252(5) of the Reading Excellence Act—

(A) means the application of rigorous, systematic, and objective procedures to obtain valid knowledge relevant to reading development, reading instruction, and reading difficulties; and

(B) shall include research that—

(i) employs systematic, empirical methods that draw on observation or experiment;

(ii) involves rigorous data analyses that are adequate to test the stated hypotheses and justify the general conclusions drawn;

(iii) relies on measurements or observational methods that provide valid data across evaluators and observers and across multiple measurements and observations; and

(iv) has been accepted by a peer-reviewed journal or approved by a panel of independent experts through a comparably rigorous, objective, and scientific review.

Indirect Costs: For purposes of indirect costs that may be charged to the Early Childhood Educator Professional Development Program grants, the Secretary considers all funded projects to be educational training grants within the meaning of 34 CFR 75.562(a). Therefore, consistent with 34 CFR 75.562, except for costs that may be incurred by State agencies or agencies of local governments, such as local educational agencies, a recipient's indirect cost rate is limited to the maximum of eight percent or the amount permitted by its negotiated indirect cost rate agreement, whichever is less.

Applicability of Regulations: The following provisions of the Education Department General Administrative Regulations (EDGAR) contained in Title 34 of the Code of Federal Regulations (CFR) apply to these Early Childhood Educator Professional Development Program grants: 34 CFR Parts 74, 75, 77, 79, 80, 81, 82, 85, 86, 97, 98, and 99.

Waiver of Proposed Rulemaking: It is the Secretary's practice, in accordance with the Administrative Procedures Act (5 U.S.C. 553), to offer interested parties the opportunity to comment on proposed priorities that are not taken directly from statute. Ordinarily, this practice would have applied to the absolute priority and competitive preference in this notice. Section 437(d)(1) of the General Education Provisions Act (GEPA), however, exempts from this requirement rules that apply to the first competition under a new or substantially revised program. The Secretary, in accordance with section 437(d)(1) of GEPA, has decided to forego public comment with respect to the absolute priority and competitive preferences in this grant competition in order to ensure timely awards. The absolute priority and competitive preferences will apply only to the FY 2001 grant competition.

Priorities

Absolute Priority: Under 34 CFR 75.105(c)(3), the Secretary gives an absolute preference to any eligible applicant that meets all of the following criteria:

(1) The applicant (or at least one party in a group application) currently is a professional development provider for early childhood educators;

(2) The applicant proposes with these grant funds to provide high-quality, research-based professional development that is for early childhood educators who work in early childhood programs in high-poverty communities serving primarily children from low-income families, and that focuses on training to improve early childhood pedagogy and further children's language and literacy competencies to prevent them from encountering reading difficulties once they enter school; and

(3) The applicant includes in its proposal specific goals, objectives, and indicators that measure the extent to which the program results in an increase in participants' knowledge and skills, the extent to which participants apply their increased knowledge and skills in early childhood learning and care environments, the extent to which the program results in developing children's readiness for school and language and literacy competencies, and the extent to which the program is replicable in multiple early childhood programs staffed by educators serving disadvantaged children.

Note: NOTE: Following is an example of the type of performance goal, objective, and indicators for these grants that a high-quality application might include:

Performance goal: To promote school readiness and better reading outcomes for young children, aged birth through pre-kindergarten, living in high-poverty areas through high-quality, research-based professional development.

Performance Objective: To improve the knowledge and skills of early childhood educators working in high-poverty communities to enable them to further children's language and literacy competencies and readiness for school.

Indicator #1: Increasing percentages of classrooms staffed by early childhood educators who participated in professional development made available through this grant will show an improvement in the literacy environment.

Indicator #2: Increasing percentages of early childhood educators will demonstrate knowledge and understanding of effective, research-based approaches to school readiness, language and literacy development, and early childhood pedagogy.

Indicator #3: Increasing percentages of children participating in early childhood education programs staffed by educators who participated in professional development provided by this grant will demonstrate age-appropriate language and literacy competencies and readiness for school.)

Under 34 CFR 75.105(c)(3), the Secretary will fund under this competition only applicants that meet this absolute priority.

Competitive Preferences: Under 34 CFR 75.105(c)(2), the Secretary gives three separate competitive preferences to applications as follows:

Competitive Preference 1—Group Applications

Group applications that have, in addition to the professional development provider required in the absolute priority, one or more eligible applicants that operates or administers an early childhood program that is located in a high-poverty community and serves primarily children from low-income families, such as a local educational agency with a Title I pre-school or schoolwide program, a Head Start agency, a State or local agency administering programs funded under the Child Care and Development Fund, an entity operating an Even Start Family Literacy program, a State educational agency, or a State human services agency.

An application that meets this first competitive preference would receive 10 points in the competition. These points are in addition to any points the applicant earns under the selection criteria and any other competitive preference.

Competitive Preference 2—Research-based Training in Specific Areas

Applications that, in addition to meeting the absolute priority, provide comprehensive research-based training for each participating early childhood educator that incorporates all of the following areas:

(a) Child, language, and literacy development and early childhood pedagogy;

(b) Working with parents and families to prepare their young children to succeed in school;

(c) Working with children who have limited English proficiency; and

(d) Identifying and working with children with disabilities and other special needs.

An application that meets this second competitive preference would receive 10 points in the competition. These points are in addition to any points the applicant earns under the selection criteria or any other competitive preference.

Competitive Preference 3—Communities with High Concentrations of Children with Limited English Proficiency

Applicants that meet the absolute priority and target professional development services for early childhood educators who work in early childhood education programs that serve high-poverty communities with concentrations of children who have limited English proficiency.

An application that meets this third competitive preference would receive 10 points in the competition. These points are in addition to any points the applicant earns under the selection criteria or any other competitive preference.

Invitational Priorities: The Secretary is particularly interested in receiving applications that propose to do one or both of the following:

Invitational Priority 1—Strategy for Improving Low-Performing Schools

Applications that target professional development services on early childhood educators who work in early childhood education programs with children who will enter low-performing schools and that describe and demonstrate that improved early childhood education is part of a more comprehensive strategy for improving those low-performing schools.

Invitational Priority 2—Training That Results in College Credit and/or Leads to Certification

Applications that propose to provide early childhood professional development that results in college credit, or leads to a degree, credential, or certification in early childhood education, or both.

An application that meets either of these invitational priorities receives no competitive or absolute preference over applications that do not meet the priority.

Selection Criteria: The Secretary will use the following selection criteria in 34 CFR 75.210 to evaluate applications under this competition. The maximum score for all of these selection criteria is 100 points. The maximum score for each criterion is indicated in parenthesis with the criterion. The criterion, and the factors within each criterion, are as follows:

(a) Need for project (15 points). (1) The Secretary considers the need for the proposed project.

(2) In determining the need for the proposed project, the Secretary considers one or more of the following factors:

(i) The extent to which the proposed project will provide services or otherwise address the needs of students at risk of educational failure.

(ii) The extent to which specific gaps or weakness in services, infrastructure, or opportunities have been identified and will be addressed by the proposed project, including the nature and magnitude of those gaps or weaknesses.

Note: Applicants may address this criterion and factor in any way that they choose. The Secretary believes, however, that high-quality applications likely will include a description of the high-poverty community to be served by the project, including relevant demographic and socioeconomic information.

(b) Significance (10 points). (1) The Secretary considers the significance of the proposed project.

(2) In determining the significance of the proposed project, the Secretary considers one or more of the following factors:

(i) The potential contribution of the proposed project to increased knowledge or understanding of educational problems, issues, or effective strategies.

(ii) The importance or magnitude of the results or outcomes likely to be attained by the proposed project.

Note: Applicants may address this criterion and factor in any way that they choose. The Secretary believes, however, that high-quality applications likely will propose a professional development program that will be large enough in scope to serve a significant number of early childhood educators, while being balanced with professional development that is of sufficient quality, intensity, and duration to ensure improvements in practice among educators receiving those services. The Secretary anticipates that high-quality applications also likely will include specific information on how many early childhood educators the application proposes to serve, and how many early childhood programs the applicant anticipates will be directly enhanced by improvements in practice among educators receiving the professional development services.

(c) Quality of the project design (15 points).

(1) The Secretary considers the quality of the design of the proposed project.

(2) In determining the quality of the design of the proposed project, the Secretary considers one or more of the following factors:

(i) The extent to which the proposed activities constitute a coherent, sustained program of training in the field.

(ii) The extent to which the design of the proposed project includes a thorough, high-quality review of the relevant literature, a high-quality plan for project implementation, and the use of appropriate methodological tools to ensure successful achievements of project objectives.

Note: Applicants may address this criterion and factor in any way that they choose. The Secretary believes, however, that high-quality applications likely will include information on the quality of the early childhood educator professional development program currently conducted by the institution of higher education or other professional development provider that is the applicant or party in a group application for the grant.

(iii) The extent to which the proposed project will be coordinated with similar or related efforts, and with other appropriate community, State, and Federal resources.

Note: Applicants may address this criterion and factor in any way that they choose. The Secretary believes, however, that high-quality applications likely will include information on how the project will coordinate with and build on, and will not supplant or duplicate, other high-quality early childhood educator professional development activities that exist in the community.

(d) Quality of project services (20 points). (1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers one or more of the following factors:

(i) The extent to which the training or professional development services to be provided by the proposed project are of sufficient quality, intensity, and duration to lead to improvements in practice among the recipients of those services.

(ii) The extent to which the services to be provided by the proposed project are appropriate to the needs of the intended recipients or beneficiaries of those services.

Note: Applicants may address this criterion and factor in any way that they choose. The Secretary believes, however, that high-quality applications likely will include the results of the assessment that the applicant has undertaken to determine the most critical professional development needs of the early childhood educators to be served by the project and in the broader community, and a description of how the proposed project will address those needs.

(e) Quality of project personnel (5 points). (1) The Secretary considers the quality of the personnel who will carry out the proposed project.

(2) In determining the quality of project, the Secretary considers the extent to which the applicant encourages applications for employment from persons who are members of groups that have been traditionally underrepresented based on race, color, national origin, gender, age, or disability.

(3) In addition, the Secretary considers the following factor:

(i) The qualifications, including relevant training and experience, of key project personnel.

(f) Adequacy of resources (10 points). (1) The Secretary considers the adequacy of resources for the proposed project.

(2) In determining the adequacy for the proposed project, the Secretary considers one or more of the following factors:

(i) The adequacy of support, including facilities, equipment, supplies, and other resources, from the applicant organization or the lead applicant organization.

(ii) The relevance and demonstrated commitment of each partner in the proposed project to the implementation and success of the project.

Note: The Secretary generally considers “partner” in this context to mean parties in a group application that are not the lead applicant organization, and other relevant agencies, organizations, and institutions.

(iii) The potential for continued support of the project after Federal funding ends, including, as appropriate, the demonstrated commitment of appropriate entities to such support.

(g) Quality of the management plan (15 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The adequacy of procedures for ensuring feedback and continuous improvement in the operation of the proposed project.

(iii) The extent to which the time commitments of the project director and principal investigator and key project personnel are appropriate and adequate to meet the objectives of the proposed project.

(h) Quality of proposed evaluation (10 points).

(1) The Secretary considers the quality of the evaluation to be conducted of the proposed project.

(2) In determining the quality of the evaluation, the Secretary considers the following factor:

(i) The extent to which the methods of evaluation are thorough, feasible, and appropriate to the goals, objectives, and outcomes of the proposed project.

Note: Applicants may address this criterion and factor in any way that they choose. The Secretary believes, however, that high-quality applications likely will describe how the proposed methods of evaluation specifically are linked to each of the project's performance goals, objectives, and indicators, and will include the use of rigorous methodologies with assessments that are reliable and valid for the purposes intended.

Paperwork Reduction Act Considerations: The procedures and requirements contained in this notice relate to an application package that the Department has developed for the Early Childhood Educator Professional Development Program grants. The public may obtain copies of this application package by calling or writing the individual identified below as the Department's contact, or through the Department's Web site at: www.ed.gov/GrantApps/#84.349A.

As required by the Paperwork Reduction Act, the Office of Management and Budget has approved the use of this application package under OMB control number 1810-0633, which expires July 31, 2001.

For Applications and Further Information Contact: Doris F. Sligh, Compensatory Education Programs, Office of Elementary and Secondary Education, 400 Maryland Avenue SW, Washington, DC 20202-6132. Telephone: (202) 260-0999, or via Internet: Doris_Sligh@ed.gov.

The application package also is available on the Department's Web site at the address indicated above.

If you use a telecommunications device for the deaf (TDD), you may call the Federal Information Relay Service (FIRS) at 1-800-877-8339. Individuals with disabilities may obtain this document in an alternative format (e.g., Braille, large print, audiotape, or computer diskette) on request to the contact person listed in the preceding paragraph.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: www.ed.gov/legislation/fedregister.

To use the PDF, you must have Adobe Acrobat Reader, which is available free at that site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 6622 and Public Law No. 106-554.

Dated: April 18, 2001.
Thomas M. Corwin,
Acting Deputy Assistant Secretary for Elementary and Secondary Education.

[FR Doc. 01-10049 Filed 4-23-01; 8:45 am]

BILLING CODE 4000-01-P